DEPARTMENT OF COMMERCE

International Trade Administration

[A-791-804]

Termination of Suspended Antidumping Duty Investigation: Cut-to-Length Carbon Steel Plate From South Africa

AGENCY: Import Administration, International Trade Administration, Department of Commerce.

ACTION: Notice of Termination of Suspended Antidumping Duty Investigation: Cut-to-Length Carbon Steel Plate from South Africa.

SUMMARY: Pursuant to section 751(c) of the Tariff Act of 1930, as amended (“the Act”), the United States International Trade Commission (“the Commission”) determined that termination of the suspended antidumping duty investigation on cut-to-length carbon steel plate (“CTL plate”) from South Africa is not likely to lead to continuation or recurrence of material injury to an industry in the United States within a reasonably foreseeable time. See Carbon Steel Plate from China, Russia, South Africa, and Ukraine, Investigations Nos. 731-TA-753-756 (Review) 68 FR 52614 (September 4, 2003)(“Final ITC Results”). Therefore, pursuant to section 751(d)(2) of the Act and 19 CFR 351.222(i)(1)(iii), the Department of Commerce (“the Department”) is terminating the suspended antidumping duty investigation on CTL plate from South Africa. The effective date of termination is October 24, 2002, the fifth anniversary of the date of publication of the suspended investigation, October 24, 1997.

EFFECTIVE DATE: October 24, 2002.

FOR FURTHER INFORMATION CONTACT: Martha V. Douthit or Kelly Parkhill, Office of Policy for Import Administration, International Trade Administration, U.S. Department of Commerce, 14th Street and Constitution Ave. NW., Washington, DC. 20230; telephone: (202) 482-5050 or (202) 482-3791, respectively.

SUPPLEMENTARY INFORMATION:

Background

On September 3, 2002, the Department initiated, and the Commission instituted, a sunset review of the suspended investigation on CTL plate from South Africa pursuant to section 751(c) of the Act. See Initiation of Five-Year (“Sunset”) Review, 67 FR 56268 (September 3, 2002), and Carbon Steel Plate from China, Russia, South Africa, and Ukraine, 67 FR 56311 (September 3, 2003). As a result of the review, the Department found that termination of the suspended investigation on CTL plate from South Africa would likely lead to continuation or recurrence of dumping. See Cut-to-Length Carbon Steel Plate From the People's Republic of China, the Russian Federation, and South Africa; Final Results of Expedited Sunset Review of Suspended Antidumping Duty Investigations, 68 FR 1038 (January 8, 2003).

On September 4, 2003, the Commission determined, pursuant to section 751(c) of the Act, that termination of the suspended investigation on CTL plate from South Africa would not likely lead to continuation or recurrence of material injury to an industry in the United States within a reasonably foreseeable time. See “ITC Final Results”.

Scope of Review

The products covered under the suspension agreement are hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this petition are flat-rolled products of non-rectangular cross-section where such cross-section is achieved subsequent to the rolling process (i.e., products which have been “worked after rolling”)—for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Excluded from the subject merchandise within the scope of the petition is grade X-70 plate. Although the HTS subheadings are provided for convenience and Customs purposes, our written description of the scope of this sunset review is dispositive.

Determination

As a result of the determination by the Commission that termination of the suspended investigation is not likely to lead to continuation or recurrence of material injury to an industry in the United States, the Department, pursuant to section 751(d)(2) of the Act and 19 CFR 351.222(i)(1)(iii), is terminating the suspended investigation on CTL plate from South Africa. Pursuant to section 751(c)(6)(A)(iv) of the Act and 19 CFR 351.222(i)(2)(ii), termination of this suspended investigation is effective October 24, 2002, the fifth anniversary of the date of publication of the suspended investigation. The termination of the suspended investigation is effective with respect to all entries, or withdrawals from warehouse of the subject merchandise on or after October 24, 2002.

Dated: September 11, 2003.
Joseph A. Spetrini,
Acting Assistant Secretary for Import Administration.

[FR Doc. 03-23760 Filed 9-16-03; 8:45 am]

BILLING CODE 3510-DS-P